DEPARTMENT OF DEFENSE

GENERAL SERVICES ADMINISTRATION

NATIONAL AERONAUTICS AND SPACE ADMINISTRATION

[OMB Control No. 9000-0014; Docket 2017-0053; Sequence 8]

Information Collection; Statement and Acknowledgment (Standard Form 1413)

AGENCY: Department of Defense (DOD), General Services Administration (GSA), and National Aeronautics and Space Administration (NASA).

ACTION: Notice of request for public comments regarding an extension to an existing OMB clearance.

SUMMARY: Under the provisions of the Paperwork Reduction Act of 1995, the Regulatory Secretariat Division (MVCB) will be submitting to the Office of Management and Budget (OMB) a request to review and approve an extension of a currently approved information collection requirement concerning statement and acknowledgment Standard Form (SF) 1413.

DATES: Submit comments on or before October 2, 2017.

ADDRESSES: Submit comments identified by Information Collection 9000-0014 by any of the following methods:

• Regulations.gov: http://www.regulations.gov. Submit comments via the Federal eRulemaking portal by searching the OMB control number 9000-0014. Select the link “Comment Now” that corresponds with “Information Collection 9000-0014, Statement and Acknowledgment (SF 1413)”. Follow the instructions provided on the screen. Please include your name, company name (if any), and “Information Collection 9000-0014, Statement and Acknowledgment (SF 1413)” on your attached document.

• Mail: General Services Administration, Regulatory Secretariat Division (MVCB), 1800 F Street NW., Washington, DC 20405. ATTN: Ms. Sosa/IC 9000-0014, Statement and Acknowledgment (SF 1413).

Instructions: Please submit comments only and cite Information Collection 9000-0014, in all correspondence related to this collection. Comments received generally will be posted without change to http://www.regulations.gov, including any personal and/or business confidential information provided. To confirm receipt of your comment(s), please check www.regulations.gov, approximately two to three days after submission to verify posting (except allow 30 days for posting of comments submitted by mail).

FOR FURTHER INFORMATION CONTACT: Ms. Zenaida Delgado, Procurement Analyst, via telephone 202-969-7207 or via email to zenaida.delgado@gsa.gov.

SUPPLEMENTARY INFORMATION:

A. Purpose

SF 1413, Statement and Acknowledgment, is used by all executive agencies, including the Department of Defense, to obtain a statement from contractors that the proper clauses have been included in subcontracts. The form is used by the prime contractor to identify and report all applicable subcontracts (all tiers) awarded under the prime contract, identify specific scopes of work the subcontractors will be performing, subcontract award date, and subcontract number, and provide formal notification to the applicable subcontractors of the labor laws and associated clauses they are responsible for complying with.

B. Annual Reporting Burden

Respondents: 30,500.

Responses per Respondent: 2.

Total Responses: 61,000.

Hours per Response: .05.

Total Burden Hours: 3,050.

C. Public Comments

Public comments are particularly invited on: Whether this collection of information is necessary for the proper performance of functions of the Federal Acquisition Regulation (FAR), and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Obtaining Copies of Proposals: Requesters may obtain a copy of the information collection documents from the General Services Administration, Regulatory Secretariat Division (MVCB), 1800 F Street NW., Washington, DC 20405, telephone 202-501-4755.

Please cite OMB Control No. 9000-0014, Statement and Acknowledgment (SF 1413), in all correspondence.

Dated: July 27, 2017.
Lorin S. Curit,
Director, Federal Acquisition Policy Division, Office of Government-wide Acquisition Policy, Office of Acquisition Policy, Office of Government-wide Policy.

[FR Doc. 2017-16274 Filed 8-1-17; 8:45 am]

BILLING CODE 6820-EP-P